DEPARTMENT OF HEALTH AND HUMAN SERVICES

Health Resources and Services Administration

Meeting of the Advisory Committee on Training and Primary Care Medicine and Dentistry

AGENCY: Health Resources and Services Administration (HRSA), Department of Health and Human Services.

ACTION: Notice.

SUMMARY: In accordance with the Federal Advisory Committee Act, this notice announces that the Advisory Committee on Training in Primary Care Medicine and Dentistry (ACTPCMD or Committee) will hold public meetings for the 2024 calendar year (CY). This notice supersedes the information about ACTPCMD's 2024 meetings found in the Federal Register notice dated December 15, 2023, Meeting of the Advisory Committee on Training and Primary Care Medicine and Dentistry.

DATES: ACTPCMD meetings will be held on:

• August 1, 2024, 8:00 a.m.-5:00 p.m. Eastern Time and August 2, 2024, 8:00 a.m.-3:00 p.m. Eastern Time, and

• Another 2024 meeting will be identified at a later date and announced at least 30 days before the meeting date through the Federal Register.

ADDRESSES: Meetings will be held in-person, by teleconference, and/or on a video conference platform. In-person meetings will be held at the HRSA Headquarters located at 5600 Fishers Lane, Rockville, Maryland, 20857 and will also be broadcast virtually on a video conference platform. For updates on how the meetings will be held, visit the ACTPCMD website 20 days before the date of the meeting, where instructions for joining meetings will be posted. For meeting information updates, go to the ACTPCMD website meeting page at https://www.hrsa.gov/advisory-committees/primarycare-dentist/meetings.

FOR FURTHER INFORMATION CONTACT: Shane Rogers, Designated Federal Officer, Division of Medicine and Dentistry, Bureau of Health Workforce, HRSA, 5600 Fishers Lane, Room 15N102, Rockville, Maryland 20857; 301-443-5260; or SRogers@hrsa.gov.

SUPPLEMENTARY INFORMATION: ACTPCMD provides advice and recommendations to the Secretary of Health and Human Services on policy, program development, and other matters of significance concerning the activities under Section 747 of Title VII of the Public Health Service (PHS) Act, as it existed upon the enactment of Section 749 of the PHS Act in 1998. ACTPCMD prepares an annual report describing the activities of the committee, including findings and recommendations made by the committee concerning the activities under Section 747, as well as training programs in oral health and dentistry. The annual report is submitted to the Secretary of Health and Human Services as well as the Chair and ranking members of the Senate Committee on Health, Education, Labor and Pensions and the House of Representatives Committee on Energy and Commerce. ACTPCMD also develops, publishes, and implements performance measures and guidelines for longitudinal evaluations of programs authorized under title VII, part C of the PHS Act, and recommends appropriation levels for programs under this Part.

Since priorities dictate meeting times, be advised that start times, end times, and agenda items are subject to change. For CY 2024 meetings, agenda items may include, but are not limited to, a full review of the many programs authorized under title VII, sections 747 and 748, of the PHS Act, discussions pertaining to tribal health issues, and potential recommendations updating the authorizing legislations for the programs. Refer to the ACTPCMD website listed above for all current and updated information concerning the CY 2024 ACTPCMD meetings, including agendas and meeting materials that will be posted 20 calendar days before the meeting.

Members of the public will have the opportunity to provide comments. Public participants may submit written statements in advance of the scheduled meeting(s). Oral comments will be honored in the order they are requested and may be limited as time allows. Requests to submit a written statement or make oral comments to ACTPCMD should be sent to Shane Rogers using the contact information above at least 5 business days before the meeting date(s).

Individuals who need special assistance or another reasonable accommodation should notify Shane Rogers using the contact information listed above at least 10 business days before the meeting(s) they wish to attend. Since all in-person meetings will occur in a federal government building, 5600 Fishers Lane, Rockville, Maryland 20857, attendees must go through a security check to enter the building. Members of the public must notify the Designated Federal Officer of their intent to attend the in-person meeting 10 business days before the meeting. Non-U.S. Citizen attendees must notify the Designated Federal Officer of their planned attendance at least 20 business days prior to the meeting to facilitate their entry into the building. All attendees are required to present government-issued identification prior to entry.

Maria G. Button,
Director, Executive Secretariat.

[FR Doc. 2024-10614 Filed 5-14-24; 8:45 am]

BILLING CODE 4165-15-P